DEPARTMENT OF COMMERCE

National Oceanic and Atmospheric Administration

[I.D. 121801G]

Pacific Fishery Management Council; Public Meetings and Hearings

AGENCY: National Marine Fisheries Service (NMFS), National Oceanic and Atmospheric Administration (NOAA), Commerce.

ACTION: Notice of public meetings and hearings.

SUMMARY: The Pacific Fishery Management Council (Council) will hold public hearings to receive public comment on the draft fishery management plan (FMP) for West Coast highly migratory species (HMS) fisheries. This notice announces the dates and locations of these public hearings. The draft FMP will be available after December 31, 2001.

DATES: Public hearings will be held January 28-February 4, 2002 at seven West Coast locations. See SUPPLEMENTARY INFORMATION for specific date and time information.

ADDRESSES: Documents will be available from and written comments should be sent to Dr. Donald McIsaac, Executive Director, Pacific Fishery Management Council, 7700 NE Ambassador Place, Suite 200, Portland, OR 97220; phone: 503-326-6352 or fax: 503-326-6831. For specific meeting and hearing locations, see SUPPLEMENTARY INFORMATION.

FOR FURTHER INFORMATION CONTACT: Dan Waldeck; phone: 503-326-6352.

SUPPLEMENTARY INFORMATION: Public hearings will be held to receive comments on the draft FMP at the following locations and times:

January 28, 2002, 4 p.m.: Natural Resources Building, 1111 Washington Street, Room 172, Olympia, WA 98501.

January 29, 2002, 7 p.m.: Red Lion Inn, Pacific Room, 400 Industry, Astoria, OR 97103.

January 30, 2002, 7 p.m.: Red Lion Hotel, South Umpqua Room, 1313 N Bayshore Drive, Coos Bay, OR 97420.

January 31, 2002, 7 p.m.: Red Lion Hotel Eureka, Evergreen Room, 1929 Fourth Street, Eureka, CA 95501.

February 1, 2002, 7 p.m.: Moss Landing Community Center, 8071 Moss Landing Road, Moss Landing, CA 95039.

February 2, 2002, 11 a.m.: Hilton Port of Los Angeles/San Pedro, Terrasini Room, 2800 Via Cabrillo Marina, San Pedro, CA 90731.

February 4, 2002, 7 p.m.: Hubbs-Sea World Research Institute, 2595 Ingraham Street, San Diego, CA 92109.

The public may also provide oral and written comments on the draft FMP during the March 2002 Council meeting, which will be held March 11-15, 2002 at the Red Lion Hotel Sacramento, 1401 Arden Way, Sacramento, CA 95815. At that time, the Council is scheduled to take final action on the HMS FMP.

Although non-emergency issues not contained in this hearing notice may arise for discussion, those issues may not be the subject of formal action during these hearings. Action will be restricted to those issues specifically listed in this document and to any issues arising after publication of this notice that require emergency action under section 305(c) of the Magnuson-Stevens Act, provided the public has been notified of the Council’s intent to take final action to address the emergency.

Special Accommodations

The meetings are physically accessible to people with disabilities. Requests for sign language interpretation or other auxiliary aids should be directed to Ms. Carolyn Porter at 503-326-6352 (voice), or 503-326-6831 (fax) at least 5 days prior to the meeting date.

Dated: December 19, 2001.
Richard W. Surdi,
Acting Director, Office of Sustainable Fisheries, National Marine Fisheries Service.

[FR Doc. 01-31974 Filed 12-27-01; 8:45 am]

BILLING CODE 3510-22-S